DEPARTMENT OF HOUSING AND URBAN DEVELOPMENT

[Docket No. FR-5415-FA-28]

Announcement of Funding Awards for the Emergency Capital Repair Grant Program; Fiscal Year 2010

AGENCY: Office of the Assistant Secretary for Housing—Federal Housing Commissioner, HUD.

ACTION: Notice of funding awards.

SUMMARY: In accordance with section 102(a)(4)(C) of the Department of Housing and Urban Development Reform Act of 1989, this announcement notifies the public of Emergency Capital Repair Grant funding decisions made by the Department in FY 2011. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Emergency Capital Repair Grants Program is authorized by Section 202(b) of the Housing Act of 1959 (12 U.S.C. 1701q-2). Section 202b was amended to provide grants for `substantial capital repairs to eligible multifamily projects with elderly tenants that are needed to rehabilitate, modernize, or retrofit aging structures, common areas or individual dwelling units.' HUD accepted applications on a first-come, first-serve basis and awarded emergency capital repair grants until available amounts were expended.

The Catalog of Federal Domestic Assistance number for this program is 14.315.

The Emergency Capital Repair Grant is designed to provide funds to make emergency capital repairs to eligible multifamily projects owned by private nonprofit entities designated for occupancy by elderly tenants. The capital repair needs must relate to items that present an immediate threat to the health, safety, and quality of life of the tenants. The intent of these grants is to provide one-time assistance for emergency items that could not be absorbed within the project's operating budget and other project resources.

A total of $4,893,248 was awarded to 16 projects and 1,809 units. In accordance with section 102(a)4)(C) of the Department of Housing and Urban Development Reform Act of 1989 (103 Stat. 1987. 42 U.S.C. 3545), the Department is publishing the grantees and amounts of the awards in Appendix A of this document.

Dated: April 26, 2011.
Robert C. Ryan,
Acting Assistant Secretary for Housing—Federal Housing Commissioner.

Appendix A—Emergency Capital Repair Grant Awardees FY 2010
Name of development | Name of owner/sponsor | City | State | Number of units | Dollar amount awarded | Repairs funded
Baptist Towers | Baptist Towers, Inc | Louisville | KY | 199 | $220,774 | Replace elevators.
Cheshire House | Cheshire House, Inc | Philadelphia | PA | 12 | 251,953 | Replace windows, emergency call system, elevators and roof.
Culpepper Garden I | Culpepper Garden I, Inc | Arlington | VA | 204 | 447,071 | Replace the convertor system tees and piping.
DePaul House Apartments | Associated Catholic Charities, Inc | Baltimore | MD | 109 | 53,448 | Replace the failing roof.
Four Freedoms House of Seattle | Four Freedoms House of Seattle, Inc | Seattle | WA | 302 | 431,113 | Replace the brick canopy and canopy posts over the main entrance.
Four Freedoms House of Miami Beach | Four Freedoms House of Miami Beach, Inc | Miami Beach | FL | 210 | 229,430 | Replace the windows.
Friendship House—Hopkinsville | Friendship House—Hopkinsville, Inc | Hopkinsville | KY | 61 | 500,000 | Correct major foundation issues.
Friendship Manor | Friendship Homes, Inc | Morgantown | WV | 49 | 351,114 | Repair the elevators and replace the windows, cooling chassis units in the through-wall combination heating, ventilation and air conditioning units.
Givens Estates | Given Housing Corporation | Ashville | NC | 78 | 101,178 | Replace 20 decaying raised walkways.
Glover Plaza | Glover Plaza, Inc | Wilmington | NC | 75 | 272,210 | Replace the roofs and correct the failed drainage system.
Highlands Manor | National Church Residences of Daytona Beach, Florida, Inc | Dayton Beach | FL | 63 | 410,074 | Repair and replace the existing exterior insulation finishing systems.
Riverside Apartments | Riverside Apartments | New Castle | PA | 128 | 294,265 | Replace the roof and grinder pump.
Sandpiper Run | National Church Residences of Florida @ McGregor Lake, Inc | Ft. Myers | FL | 60 | 500,000 | Repair and replace the existing exterior insulation finishing system.
Steel Plaza | Senior Citizens Housing Development Corporation of Los Angeles | Los Angeles | CA | 66 | 258,002 | Replace the common area and individual tenant HVAC units.
Steelworkers Tower | NCSC/USA Housing Development Corporation | Pittsburgh | PA | 80 | 406,967 | Replace the roof, elevator and windows.
Village of Brush Manor | Brush Park Senior Housing Development Corporation | Detroit | MI | 113 | 165,649 | Replace the windows.

[FR Doc. 2011-10987 Filed 5-4-11; 8:45 am]

BILLING CODE 4210-67-P